DEPARTMENT OF LABOR

Employment and Training Administration

[TA-W-55,582]

American Falcon Corporation, Auburn, ME; Notice of Termination of Investigation

Pursuant to section 221 of the Trade Act of 1974, as amended, an investigation was initiated on September 10, 2004 in response to a petition filed by a company official on behalf of workers at American Falcon Corporation, Auburn, ME.

The petitioner has requested that the petition be withdrawn. Consequently, the investigation has been terminated.

Signed at Washington, DC this 23rd day of September, 2004.
Richard Church,
Certifying Officer, Division of Trade Adjustment Assistance.

[FR Doc. E4-2543 Filed 10-7-04; 8:45 am]

BILLING CODE 4510-30-P